DEPARTMENT OF TRANSPORTATION

Federal Motor Carrier Safety Administration

[Docket No. FMCSA-2006-25290]

Commercial Driver's License Standards; Isuzu Motors America, Inc.'s Exemption Application

AGENCY: Federal Motor Carrier Safety Administration (FMCSA), DOT.

ACTION: Notice of final disposition; granting of application for exemption.

SUMMARY: The FMCSA announces its decision to approve Isuzu Motors America, Inc.'s (Isuzu), application for an exemption for a period of 2 years for 27 of its driver-employees who are citizens and residents of Japan and hold a Japanese CDL, to enable them to test-drive commercial motor vehicles (CMVs) in the United States without a commercial driver's license (CDL) issued by one of the States. Isuzu requested the exemption so that these driver-employees can operate as a team, evaluating and testing production and prototype CMVs in the United States in order to assist in the design of safe vehicles for sale in the United States. FMCSA believes the knowledge and skills testing and training program that Japanese drivers must undergo to obtain a Japanese CDL ensures a level of safety that is equivalent to, or greater than, the level of safety achieved without the exemption.

DATES: This exemption is effective on January 5, 2009 and expires on January 5, 2011.

FOR FURTHER INFORMATION CONTACT: Mr. Robert F. Schultz, Jr., FMCSA Office of Bus and Truck Standards and Operations, Driver and Carrier Operations Division, Telephone: 202-366-4325, or e-mail: MCPSD@dot.gov.

SUPPLEMENTARY INFORMATION:

Background

Under 49 U.S.C. 31315 and 31136(e), FMCSA may grant an exemption for a maximum of 2 years if it finds “* * * such exemption would likely achieve a level of safety that is equivalent to, or greater than, the level that would be achieved absent such exemption * * *” The procedure for requesting an exemption is prescribed by 49 CFR part 381. FMCSA has evaluated Isuzu's application on its merits and decided to grant the exemption from 49 CFR 383.23 for the 27 Isuzu employees listed under “Japanese Drivers” below for a 2-year period.

Isuzu Application for an Exemption

Isuzu has applied for an exemption from the requirement of 49 CFR 383.23 that operators of CMVs must obtain a CDL from one of the States. Specifically, it asks that 27 of its employee-drivers who are citizens and residents of Japan and hold a Japanese CDL be permitted to operate a CMV in the United States for a period of 2 years. The exemption would allow these individuals to test-drive Isuzu CMVs without a CDL issued by one of the States. A copy of the request for exemption is in the docket identified at the beginning of this notice.

Comments

On August 25, 2008, FMCSA published a notice of Isuzu's application for exemption (73 FR 50065), and requested comments from the public. Only one brief comment was received; it urged FMCSA to deny the exemption because the author believed that the 27 Isuzu employees should be required to comply with the CDL law. The comment did not address the qualifications of these employees to operate CMVs, nor did it address the core issue as defined by 49 U.S.C. 31315 and 31136(e), i.e. whether granting these exemptions will lower the level of safety of CDL operations in the U.S. below the level of safety that would be experienced if this exemption were denied.

Japanese Drivers

This exemption enables the following 27 drivers to operate CMVs in the U.S. without a CDL for a period of 2 years: Yasushi Akazawa, Kenji Takashima, Kunihisa Nagata, Hidenori Seki, Toshihiko Morikawa, Koichi Uneo, Atsushi Fujiwara, Katsushi Suzuki, Mitsugu Yamamoto, Takashi Nakaya, Takahisa Chiba, Shigeru Kitano, Daisuke Mori, Takahiro Kakizaki, Takamasa Ono, Koichi Sekine, Shinichi Takahashi, Shinya Ogawa, Masamitsu Oohata, Tamotsu Watanabe, Masahito Suzuki, Kazuya Suwa, Hiroshi Yokobori, Tatsuji Kitamura, Shinichi Ishiguro, Takashi Hiromatsu, and Jun Mizushima.

Method To Ensure an Equivalent or Greater Level of Safety

These Isuzu drivers are citizens and residents of Japan, have valid Japanese-issued CDLs, and are experienced CMV operators. Drivers applying to obtain a Japanese-issued CDL must successfully pass a knowledge test and a skills test before a license to operate a CMV is issued. Prior to taking the tests, drivers are required to hold a conventional driver's license for at least 3 years. A driver granted a Japanese CDL may legally operate any CMV permitted on the roads of Japan. Thus, the requirements of a Japanese-issued CDL are considered comparable to, or as effective as, the requirements for a U.S. CDL (49 CFR part 383). Isuzu believes that these drivers will operate in such a manner that the level of safety with the exemptions in place will equal, or exceed, the level of safety that would be attained in the absence of the exemption.

FMCSA Decision

The FMCSA decision to grant these 27 drivers an exemption from Section 383.23 is based on the merits of the application for exemption, the rigorous knowledge and skills testing of Japanese drivers concerning the safe operation of CMVs, and consideration of the comment submitted in response to the public notice.

Terms and Conditions of the Exemption

Exemption from the requirements of Section 383.23 is granted to the 27 individuals identified under the “Japanese Drivers” heading above, subject to the following terms and conditions: (1) That these drivers are subject to the drug and alcohol regulations, including testing, as provided in 49 CFR part 382, (2) that these drivers are subject to the same driver disqualification rules under 49 CFR parts 383 and 391 that apply to other CMV drivers in the United States, (3) that these drivers keep a copy of the exemption in the CMV they are driving at all times, (4) that Isuzu notify FMCSA in writing of any accident, as defined in 49 CFR 390.5, involving one of the exempted drivers, and (5) that Isuzu notify FMCSA in writing if any driver is convicted of a disqualifying offense described in section 383.51 or 391.15 of the Federal Motor Carrier Safety Regulations.

The exemption will be revoked if: (1) The Isuzu drivers fail to comply with the terms and conditions of the exemption; (2) the exemption has resulted in a lower level of safety than was maintained before it was granted; or (3) continuation of the exemption would not be consistent with the goals and objectives of 49 U.S.C. 31315 and 31136.

Issued on: December 19, 2008.
Larry W. Minor,
Associate Administrator for Policy and Program Development.

[FR Doc. E8-31364 Filed 1-2-09; 8:45 am]

BILLING CODE 4910-EX-P